DEPARTMENT OF TRANSPORTATION

Federal Aviation Administration

14 CFR Part 39

[Docket No. FAA-2014-0758; Directorate Identifier 2013-SW-062-AD]

RIN 2120-AA64

Airworthiness Directives; Kaman Aerospace Corporation (Kaman) Helicopters

AGENCY: Federal Aviation Administration (FAA), DOT.

ACTION: Notice of proposed rulemaking (NPRM).

SUMMARY: We propose to adopt a new airworthiness directive (AD) for Kaman Model K-1200 helicopters with certain main rotor blades (MRB) installed. This proposed AD would require inspecting each MRB for a crack or damage. This proposed AD is prompted by a report that a crack was found on an MRB during a tear-down inspection. The proposed actions are intended to detect a crack in the MRB, which could lead to failure of the MRB and subsequent loss of control of the helicopter.

DATES: We must receive comments on this proposed AD by December 2, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Kaman Aerospace Corporation, Old Windsor Rd., P.O. Box 2, Bloomfield, CT 06002-0002; telephone (860) 242-4461; fax (860) 243-7047; or at http://www.kamanaero.com. You may review a copy of the referenced service information at the FAA, Office of the Regional Counsel, Southwest Region, 2601 Meacham Blvd., Room 663, Fort Worth Texas 76137.

FOR FURTHER INFORMATION CONTACT: Nicholas Faust, Aviation Safety Engineer, Boston Aircraft Certification Office, Engine & Propeller Directorate, 12 New England Executive Park, Burlington, Massachusetts 01803; telephone (781) 238-7763; email nicholas.faust@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

We are proposing to adopt a new AD for Kaman Model K-1200 helicopters with an MRB, part number (P/N) K911001-009, K911001-010, K911001-109, or K911001-110, installed. We received reports that during x-ray and teardown inspections with the MRB removed from the helicopter, cracks are being found in the MRB spar. To detect this unsafe condition, we are proposing requiring repetitive x-ray and visual inspections of the MRB for a crack, wood split, void, or delamination at intervals not exceeding 1,000 hours time-in-service (TIS). If there is a crack, wood split, void, or delamination, the proposed AD would require repairing or replacing the MRB before further flight. The proposed AD would also require that any inspection or repair procedure performed in compliance with this AD receive prior approval from the Boston Aircraft Certification Office. The proposed actions are intended to detect a crack in the MRB, which could lead to failure of the MRB and subsequent loss of control of the helicopter.

FAA's Determination

We are proposing this AD because we evaluated all known relevant information and determined that an unsafe condition exists and is likely to exist or develop on other products of these same type designs.

Related Service Information

We reviewed Kaman Maintenance Manual 04-00-00, Continued Airworthiness, Revision 31, dated August 1, 2013, which establishes the airworthiness limitations for the Model K-1200 helicopter. The airworthiness limitations establish an MRB life limit of 8,000 hours TIS and also establish a recurring 1,000 hour Rotor Blade Spar Inspection for each MRB with 3,000 or more hours TIS.

We also reviewed Kaman Maintenance Manual 05-20-06, 1,000 Hour Rotor Blade Spar Inspection, Revision 31, dated August 1, 2013, which specifies returning each MRB to Kaman every 1,000 hours for inspection after the MRB accumulates 3,000 hours TIS.

Proposed AD Requirements

This proposed AD would require performing repetitive X-Ray and visual inspections of each wooden MRB for a crack, wood split, void, or delamination at intervals not exceeding 1,000 hours TIS. If there is a crack, wood split, void, or delamination, the proposed AD would require repairing or replacing the MRB before further flight. The inspections and repairs required by the proposed AD would be accomplished by a method approved by the Manager of the Boston Aircraft Certification Office.

Costs of Compliance

We estimate that this proposed AD would affect 11 helicopters of U.S. Registry.

We estimate that operators may incur the following costs in order to comply with this proposed AD. At an average labor cost of $85 per hour, inspecting each matched pair of main rotor blades would require about 160 work-hours and required parts would cost about $2,000, for a cost per MRB set of $15,600 and a cost per helicopter of $31,200 per inspection cycle. If required, repairing a cracked MRB would require about 335 work-hours and required parts would cost about $15,000, for a cost per MRB of $43,475. If required, replacing a MRB set would require about 4 work-hours, and required parts would cost about $495,000, for a cost per helicopter of $495,340.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by adding the following new airworthiness directive (AD):

Kaman Aerospace Corporation Helicopters: Docket No. FAA-2014-0758; Directorate Identifier 2013-SW-062-AD.

(a) Applicability

This AD applies to Kaman Aerospace Incorporated (Kaman) Model K-1200 helicopters with a main rotor blade (MRB) part number K911001-009, K911001-010, K911001-109, or K911001-110 installed, certificated in any category.

(b) Unsafe Condition

This AD defines the unsafe condition as a crack in an MRB, which could lead to failure of the MRB and subsequent loss of control of the helicopter.

(c) Comments Due Date

We must receive comments by December 2, 2014.

(d) Compliance

You are responsible for performing each action required by this AD within the specified compliance time unless it has already been accomplished prior to that time.

(e) Required Actions

(1) Before the MRB reaches 3,000 hours time-in-service (TIS) or within 50 hours TIS, whichever occurs later, and thereafter at intervals not exceeding 1,000 hours TIS:

(i) X-Ray inspect each MRB between station (STA) 30 and 289 for a crack, a wood split, a void, and delamination.

(ii) Using a 10× or higher power magnifying glass, inspect each spar plank between STA 33 and STA 78 for a wood split or a crack, and inspect each spar plank to plank glueline for a void or delamination.

(2) If there is a crack, wood split, void, or delamination within maximum repair damage limits in an MRB, before further flight, repair the MRB. If there is a crack, wood split, void, or delamination exceeding maximum repair damage limits in an MRB, before further flight, replace the MRB with an airworthy MRB.

(3) Each inspection and repair procedure required for compliance with Paragraphs (e)(1) and (e)(2) of this AD must be accomplished by a method approved by the Manager, Boston Aircraft Certification Office (ACO). For a repair method to be approved by the Manager, Boston ACO, as required by this AD, the Manager's approval letter must specifically refer to this AD.

(f) Alternative Methods of Compliance (AMOC)

(1) The Manager, Boston ACO, FAA, may approve AMOCs for this AD. Send your proposal to: Nicholas Faust, Aviation Safety Engineer, Boston Aircraft Certification Office, Engine & Propeller Directorate, 12 New England Executive Park, Burlington, Massachusetts 01803; telephone (781) 238-7763; email nicholas.faust@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

Kaman Aerospace Corporation Maintenance Manual 04-00-00, Continued Airworthiness, Revision 31, dated August 1, 2013, and Kaman Aerospace Corporation Maintenance Manual 05-20-06, 1,000 Hour Rotor Blade Spar Inspection, Revision 31, dated August 1, 2013, which are not incorporated by reference, contain additional information about the subject of this AD. You may review a copy of this information at the FAA, Office of the Regional Counsel, Southwest Region, 2601 Meacham Blvd., Room 663, Fort Worth Texas 76137. For information on the availability of this material at the FAA, call (817) 222-5110.

(h) Subject

Joint Aircraft Service Component (JASC) Code: 6210: Main Rotor MRB.

Issued in Fort Worth, Texas, on September 17, 2014.
Kim Smith,
Directorate Manager, Rotorcraft Directorate, Aircraft Certification Service.

[FR Doc. 2014-23588 Filed 10-2-14; 8:45 am]

BILLING CODE 4910-13-P